DEPARTMENT OF HEALTH AND HUMAN SERVICES

Health Resources and Services Administration

Notice of Supplemental Funding to the National Rural Health Information Clearinghouse Program

AGENCY: Health Resources and Services Administration (HRSA), Department of Health and Human Services (HHS).

ACTION: Notice of supplemental funding.

SUMMARY: HRSA provided supplemental funds to the sole award recipient of the National Rural Health Information Clearinghouse Program under HRSA-25-009 to provide information, data, and tools related to rural health to support improving health care in rural areas.

FOR FURTHER INFORMATION CONTACT: Sarah Scott, Federal Office of Rural Health Policy, HRSA, at sscott2@hrsa.gov and (301) 287-2619.

SUPPLEMENTARY INFORMATION:

Recipient of the Award: The University of North Dakota.

Amount of Non-Competitive Award: One award for $545,000.

Project Period: June 1, 2025, to May 31, 2030.

Assistance Listing (CFDA) Number: 93.223.

Award Instrument: Cooperative Agreement Supplement for Services.

Authority: Social Security Act § 711(b) (42 U.S.C. 912(b)).

Table 1—Recipients and Award Amounts
Grant No. | Award recipient name | City, state | Supplemental award amount
U56RH05539 | University of North Dakota | Grand Forks, ND | $545,000

Justification: This funding provided a one-time supplement to the University of North Dakota via the National Rural Health Information Clearinghouse Program with a budget period of June 2025 through May 2026. This supplement allows the University of North Dakota to build on past and ongoing projects supported by HRSA to improve health care in rural areas by advancing the knowledge base regarding strategies to support and enhance rural community health. The University of North Dakota is the recipient of the only award under the program and has longstanding experience identifying, developing, and disseminating resources like toolkits and webinars to support a broad range of rural health topics. The supplement will allow the University of North Dakota to create new toolkits and resources on important topics related to rural community health and health care.

Thomas J. Engels,
Administrator.

[FR Doc. 2025-19250 Filed 10-1-25; 8:45 am]

BILLING CODE 4165-15-P